DEPARTMENT OF HOMELAND SECURITY

Federal Emergency Management Agency

[Docket ID FEMA-2014-0002; Internal Agency Docket No. FEMA-B-1441]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive, officer of community | Community map repository | Online location of letter of map revision | Effective date of modification | Community No.
Arkansas:
Benton | City of Bentonville, (13-06-3762P) | The Honorable Bob McCaslin, Mayor, City of Bentonville, 117 West Central Avenue, Bentonville, AR 72712 | 305 Southwest A Street, Bentonville, AR 72712 | http://www.msc.fema.gov/lomc | December 5, 2014 | 050012
Benton | Unincorporated areas of Benton County, (13-06-3762P) | The Honorable Robert D. Clinard, Benton County Judge, 215 East Central Avenue, Bentonville, AR 72712 | Benton County, 905 Northwest 8th Street, Bentonville, AR 72712 | http://www.msc.fema.gov/lomc | December 5, 2014 | 050419
Saline | City of Bryant, (14-06-1117P) | The Honorable Jill Dabbs, Mayor, City of Bryant, 210 Southwest 3rd Street, Bryant, AR 72022 | 210 Southwest 3rd Street, Bryant, AR 72022 | http://www.msc.fema.gov/lomc | December 10, 2014 | 050308
Oklahoma:
Oklahoma | City of Edmond, (13-06-4532P) | Mr. Larry Stevens, Manager, City of Edmond, P.O. Box 2970, Edmond, OK 73083 | 24 East 1st Street, Edmond, OK 73083 | http://www.msc.fema.gov/lomc | December 3, 3014 | 400252
Oklahoma | City of Edmond, (13-06-4538P) | Mr. Larry Stevens, Manager, City of Edmond, P.O. Box 2970, Edmond, OK 73083 | 24 East 1st Street, Edmond, OK 73083 | http://www.msc.fema.gov/lomc | December 3, 3014 | 400252
Oklahoma | City of Oklahoma City, (14-06-0510P) | The Honorable Mick Cornett, Mayor, City of Oklahoma City, 200 North Walker Avenue, 3rd Floor, Oklahoma City, OK 73102 | 420 West Main Street,, Suite 700, Oklahoma City, OK 73102 | http://www.msc.fema.gov/lomc | December 12, 2014 | 405378
Pennsylvania: Potter | Township of Portage, (14-03-1386P) | The Honorable Norman D. McAfoose, Chairman, Portage Township Board of Supervisors, 23 State Street, Austin, PA 16720 | Portage Township Hall, 986 Costello Road, Austin, PA 16720 | http://www.msc.fema.gov/lomc | December 4, 2014 | 421985
Texas:
Bexar | City of San Antonio, (14-06-1333P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | December 12, 2014 | 480045
Bexar | City of San Antonio, (14-06-1934P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | December 10, 2014 | 480045
Dallas | City of Garland, (13-06-4550P) | The Honorable Douglas Athas, Mayor, City of Garland, 200 North 5th Street, Garland, TX 75040 | 800 Main Street, Garland, TX 75040 | http://www.msc.fema.gov/lomc | December 12, 2014 | 485471
El Paso | Unincorporated areas of El Paso County, (14-06-1602P) | The Honorable Veronica Escobar, El Paso County Judge, 500 East San Antonio Avenue, Suite 301, El Paso, TX 79901 | El Paso County, 500 East San Antonio Avenue, Room 407, El Paso, TX 79901 | http://www.msc.fema.gov/lomc | December 12, 2014 | 480212
Guadalupe | City of Cibolo, (14-06-1171P) | The Honorable Lisa M. Jackson, Mayor, City of Cibolo, 200 South Main Street, Cibolo, TX 78108 | City Hall, 200 South Main Street, Cibolo, TX 78108 | http://www.msc.fema.gov/lomc | November 28, 2014 | 480267
Parker | City of Weatherford, (14-06-0306P) | The Honorable Dennis Hooks, Mayor, City of Weatherford, 303 Palo Pinto Street, Weatherford, TX 76086 | Engineering Department, 303 Palo Pinto Street, Weatherford, TX 76086 | http://www.msc.fema.gov/lomc | November 28, 2014 | 480522
Parker | Unincorporated areas of Parker County, (14-06-0306P) | The Honorable Mark Riley, Parker County Judge, 1 Courthouse Square, Weatherford, TX 76086 | Parker County Permitting Office, 1114 Santa Fe Drive, Weatherford, TX 76086 | http://www.msc.fema.gov/lomc | November 28, 2014 | 480520
Tarrant | City of Keller, (13-06-4442P) | The Honorable Mark Matthews, Mayor, City of Keller, P.O. Box 770, Keller, TX 76244 | City Hall, 1100 Bear Creek Parkway, Keller, TX 76248 | http://www.msc.fema.gov/lomc | November 21, 2014 | 480602
Tarrant | City of Southlake, (13-06-4442P) | The Honorable John Terrell, Mayor, City of Southlake, 1400 Main Street, Suite 270, Southlake, TX 76092 | Public Works Department, Administration and Engineering Division, 1400 Main Street, Suite 320, Southlake, TX 76092 | http://www.msc.fema.gov/lomc | November 21, 2014 | 480612

(Catalog of Federal Domestic Assistance No. 97.022, “Flood Insurance.”)

Dated: September 29, 2014.
Roy E. Wright,
Deputy Associate Administrator for Mitigation, Department of Homeland Security, Federal Emergency Management Agency.

[FR Doc. 2014-25191 Filed 10-21-14; 8:45 am]

BILLING CODE 9110-12-P